DEPARTMENT OF STATE

[Public Notice 12787]

30-Day Notice of Proposed Information Collection: Foreign Diplomatic Services Application

ACTION: Notice of request for public comment and submission to OMB of proposed collection of information.

SUMMARY: The Department of State has submitted the information collection described below to the Office of Management and Budget (OMB) for approval. In accordance with the Paperwork Reduction Act of 1995, we are requesting comments on this collection from all interested individuals and organizations. The purpose of this Notice is to allow 30 days for public comment.

DATES: Submit comments up to September 8, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to OFM Executive Director Adriana Spain, who may be reached at 202-695-8255 or at OFM_FrontOffice@state.gov.

SUPPLEMENTARY INFORMATION:

• Title of Information Collection: Foreign Diplomatic Services Application.

• OMB Control Number: OMB control number 1405-0105.

• Type of Request: Extension of a Currently Approved Collection.

• Originating Office: Office of Foreign Missions/OFM.

• Form Numbers: DS-98, DS-99, DS-100, DS-101, DS-102, DS-104, DS-1504, DS-1972D, DS-1972T, DS-2003, DS-2004, DS-2005, DS-2006, DS-2008, DS-4138, DS-4139, DS-4140, DS-4284, DS-4285, DS-7675.

• Respondents: Foreign Mission Personnel.

• Estimated Number of Respondents: 121,729.

• Estimated Number of Responses: 121,729.

• Average Time per Response: 12.5 minutes.

• Total Estimated Burden Time: 23,500 hours.

• Frequency: annually.

• Obligation to Respond: Mandatory and/or Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Information collection tools for gathering data from foreign missions, including electronic data collection (e-Gov), have been combined into one request called the “Foreign Diplomatic Services Applications.” These tools help the Office of Foreign Missions and the Office of the Chief of Protocol gather the information they need to manage benefits, privileges, and immunities for foreign missions and eligible applicants. This program allows them to apply for benefits from the U.S. Department of State, as provided by the Foreign Missions Act.

Methodology

Information may be received via email or electronic submission through eGov at https://egov.ofm.state.gov/.

Adriana Spain,
Executive Director, Office of Foreign Missions, Department of State.

[FR Doc. 2025-14997 Filed 8-6-25; 8:45 am]

BILLING CODE 4710-43-P